DEPARTMENT OF DEFENSE

Department of the Air Force

Availability of the Fiscal Year 2008 Air Force Services Contract Inventory Pursuant to Section 807 of the National Defense Authorization Act for Fiscal Year 2008

AGENCY: Department of the Air Force, DOD.

ACTION: Notice of publication.

SUMMARY: In accordance with section 2330a of Title 10 United States Code as amended by the National Defense Authorization Act for Fiscal Year 2008 (NDAA 08) Section 807, the Associate Deputy Assistant Secretary of the Air Force (Contracting) (ADAS(C)), Assistant Secretary (Acquisition), and the Office of the Director, Defense Procurement and Acquisition Policy, Office of Strategic Sourcing (DPAP/SS) will make available to the public the first inventory of activities performed pursuant to contracts for services. The inventory will be published to the Air Force Contracting (SAF/AQC) Web site at the following location: http://ww3.safaq.hq.af.mil/contracting/.

DATES: Inventory to be made publically available within 30 days of publication of this notice.

ADDRESSES: Send written comments and suggestions concerning this inventory to Laura Welsh, Procurement Analyst, Office of the Deputy Assistant Secretary (Contracting), Assistant Secretary of the Air Force (Acquisition), SAF/AQC, 1060 Air Force Pentagon, Washington, DC 20330-1060. Telephone (703) 588-7047 or e-mail at Laura.Welsh@pentagon.af.mil.

FOR FURTHER INFORMATION CONTACT: Laura Welsh, (703) 588-7047 or e-mail at Laura.Welsh@pentagon.af.mil.

SUPPLEMENTARY INFORMATION: NDAA 08, Section 807 amends section 2330a of Title 10 United States Code to require annual inventories and reviews of activities performed on services contracts. The Deputy Under Secretary of Defense (Acquisition and Technology) (DUSD(AT)) transmitted the Air Force inventory to Congress on August 4, 2009.

The SAF/AQC submitted the Air Force Fiscal Year 2008 Services Contract Inventory to the Office of the DPAP/SS on July 1, 2009. Included with this inventory is a narrative that describes the methodology for data collection, the inventory data, and the plan for review of this inventory. The narrative and cover letters may be downloaded in electronic form (.pdf file) from the Web site at the following location: http://ww3.safaq.hq.af.mil/contracting/. The inventory does not include contract numbers, contractor identification or other proprietary or sensitive information as these data can be used to disclose a contractor's proprietary proposal information.

An inventory of classified services contracts is not available and not published.

Bao-Anh Trinh,
Air Force Federal Register Liaison Officer.

[FR Doc. E9-20042 Filed 8-19-09; 8:45 am]

BILLING CODE 5001-05-P